ENVIRONMENTAL PROTECTION AGENCY

[EPA-HQ-OAR-2020-0631; FRL-12628-01-OMS]

Agency Information Collection Activities; Submission to the Office of Management and Budget for Review and Approval; Comment Request; NSPS for Hot Mix Asphalt Facilities (Renewal)

AGENCY: Environmental Protection Agency (EPA).

ACTION: Notice.

SUMMARY: The Environmental Protection Agency (EPA) has submitted an information collection request (ICR), NSPS for Hot Mix Asphalt Facilities (EPA ICR Number 1127.14, OMB Control Number 2060-0083) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2020-0631, to (1) EPA online using https://www.regulations.gov/ (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents which explain in detail the information that the EPA will be collecting are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Hot Mix Asphalt Facilities (40 CFR part 60, subpart I) were on proposed on June 11, 1973; promulgated on July 25, 1977; and most-recently amended on February 14, 1989. These regulations apply to hot mix asphalt facilities that commenced construction or modification after June 11, 1973. A hot mix asphalt facility is comprised only of any combination of the following: dryers; systems for screening, handling, storing, and weighing hot aggregate; systems for loading, transferring, and storing mineral filler; systems for mixing hot mix asphalt; and the loading, transfer, and storage systems associated with emission control systems. This information is being collected to assure compliance with 40 CFR part 60, subpart I.

Form Numbers: None.

Respondents/affected entities: Hot mix asphalt facilities.

Respondent's obligation to respond: Mandatory (40 CFR part 60, subpart I).

Estimated number of respondents: 798 (total).

Frequency of response: Initially and occasionally.

Total estimated burden: 3,200 hours (per year). Burden is defined at 5 CFR 1320.3(b).

Total estimated cost: $404,000 (per year). There are no annualized capital or operation & maintenance costs.

Changes in the estimates: There is a decrease in the total estimated burden as currently identified in the OMB Inventory of Approved Burdens. This adjustment is due to a decrease in the number of sources. The estimates in the current approved ICR were based on estimates collected in 2008 and adjusted for growth over time. This ICR adjusts the number of respondents based on a review of facilities identified in EPA's ECHO database, which is the most recent source of facility information available for hot mix asphalt facilities.

Courtney Kerwin,
Director, Information Engagement Division.

[FR Doc. 2025-03251 Filed 2-27-25; 8:45 am]

BILLING CODE 6560-50-P